FEDERAL HOUSING FINANCE AGENCY

[No. 2015-N-09]

Privacy Act of 1974; System of Records

AGENCY: Federal Housing Finance Agency.

ACTION: Notice of Revisions to Existing Systems of Records Notices.

SUMMARY: In accordance with the requirements of the Privacy Act of 1974, as amended, 5 U.S.C. 552a (Privacy Act), notice is hereby given that the Federal Housing Finance Agency (FHFA) is revising its existing Systems of Records Notices (SORN) to change and/or add to the System Location Address; the System Manager Address; and the Address for where to direct inquiries and requests.

The proposed revisions are to the following systems: Federal Home Loan Bank System Directory (FHFA-1); Financial Management System (FHFA-2); Correspondence Tracking System (FHFA-3); Compensation Information Provided by the Regulated Entities (FHFA-4); Mail, Contact, Telephone, and Other Lists (FHFA-7); Federal Home Loan Bank Directors (FHFA-8); Administrative Grievance Records (FHFA-9); Employee Benefits Records (FHFA-10); Transit Subsidy Program Records (FHFA-11); Parking Program Records (FHFA-12); Freedom of Information Act and Privacy Act Records (FHFA-13); Emergency Notification System (FHFA-14); Payroll, Retirement, Time and Attendance, and Leave Records (FHFA-15); and Personnel Investigative Files (FHFA-16).

Since the revisions to these existing systems of records are purely administrative in nature, they will become effective upon publication in the Federal Register.

DATES: These revisions are effective October 8, 2015. See SUPPLEMENTARY INFORMATION for additional information.

FOR FURTHER INFORMATION CONTACT: Stacy Easter, Privacy Act Officer, privacy@fhfa.gov or (202) 649-3803; or David A. Lee, Senior Agency Official for Privacy, privacy@fhfa.gov or (202) 649-3803 (not toll-free numbers), Federal Housing Finance Agency, Eighth Floor, 400 Seventh Street SW., Washington, DC 20024. The telephone number for the Telecommunications Device for the Deaf is 800-877-8339.

SUPPLEMENTARY INFORMATION:

I. Introduction

This notice satisfies the Privacy Act requirement that an agency publishes a system of records notice in the Federal Register when there is an addition or change to the agency's systems of records. Although Congress established general exemptions and specific exemptions that could be used to exempt records from provisions of the Privacy Act, the Director of FHFA has determined that records and information in this system of records are not exempt from the requirements of the Privacy Act.

Pursuant to paragraph 4.c.(1) of Appendix I to OMB Circular No. A-130, “Federal Agency Responsibilities for Maintaining Records About Individuals,” dated February 8, 1996 (61 FR 6428, 6435 February 20, 1996), FHFA has not submitted a report describing the system of records covered by this notice to the Committee on Oversight and Government Reform of the House of Representatives, the Committee on Homeland Security and Governmental Affairs of the Senate, and the Office of Management and Budget, because the changes to the systems are minor and administrative and changes of this nature are not required to be reported.

II. Notice of Amendment of Systems of Records

The following systems of records, Federal Home Loan Bank System Directory (FHFA-1), Financial Management System (FHFA-2), and Correspondence Tracking System (FHFA-3), all established at 74 FR 31949 (Jul. 6, 2009); Compensation Information Provided by the Regulated Entities (FHFA-4), established at 75 FR 35028 (Jun. 21, 2010); Mail, Contact, Telephone, and Other Lists (FHFA-7), Federal Home Loan Bank Directors (FHFA-8), Administrative Grievance Records (FHFA-9), Employee Benefits Records (FHFA-10), Transit Subsidy Program Records (FHFA-11), Parking Program Records (FHFA-12), and Freedom of Information Act and Privacy Act Records (FHFA-13), all established at 76 FR 33286 (Jun. 8, 2011); and Emergency Notification System (FHFA-14), Payroll, Retirement, Time and Attendance, and Leave Records (FHFA-15), and Personnel Investigative Files (FHFA-16), all established at 77 FR 499 (Jan. 5, 2012), are hereby revised as follows:

SYSTEM LOCATIONS:

Federal Housing Finance Agency, 400 Seventh Street SW., Washington, DC 20024; and any alternate work site utilized by employees of the Federal Housing Finance Agency (FHFA) or by individuals assisting such employees.

For the Payroll, Retirement, Time and Attendance, and Leave Records (FHFA-15) system only, add the following under System Locations: Department of the Interior, Interior Business Center, 7301 W. Mansfield Avenue, Lakewood, CO 80235.

SYSTEM MANAGER(S) AND ADDRESS:

Federal Housing Finance Agency, 400 Seventh Street SW., Washington, DC 20024, and any alternate work site utilized by FHFA employees or by individuals assisting such employees.

For the Payroll, Retirement, Time and Attendance, and Leave Records (FHFA-15) system only, add the following under System Address: Department of the Interior, Interior Business Center, 7301 W. Mansfield Avenue, Lakewood, CO 80235.

NOTIFICATION AND RECORD ACCESS PROCEDURES:

Direct inquiries and requests to the Privacy Act Officer by mail at Federal Housing Finance Agency, 400 Seventh Street SW., Washington, DC 20024, or electronically at http://www.fhfa.gov/AboutUs/FOIAPrivacy/Pages/Privacy.aspx in accordance with the procedures set forth in 12 CFR part 1204.

CONTESTING RECORD PROCEDURES:

Direct requests to the Privacy Act Appeals Officer by mail at Federal Housing Finance Agency, 400 Seventh Street SW., Washington, DC 20024, or electronically at http://www.fhfa.gov/AboutUs/FOIAPrivacy/Pages/Privacy.aspx in accordance with the procedures set forth in 12 CFR part 1204.

Dated: September 29, 2015.
Melvin L. Watt,
Director, Federal Housing Finance Agency.

[FR Doc. 2015-25678 Filed 10-7-15; 8:45 am]

BILLING CODE 8070-01-P